ENVIRONMENTAL PROTECTION AGENCY

[ER-FRL-8988-3]

Environmental Impacts Statements; Notice of Availability

Responsible Agency: Office of Federal Activities, General Information (202) 564-1399 or http://www.epa.gov/compliance/nepa/.

Weekly receipt of Environmental Impact Statements.

Filed 02/15/2010 through 02/19/2010.

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

EIS No. 20100045, Draft Supplement, BIA, CA,Campo Regional Landfill Project, Construction and Operation, Permit Lease and Sublease Use of Reservation Land, Campo Indian Reservation, San Diego County, CA, Comment Period Ends: 04/28/2010, Contact: John Rydzik 916-978-6051.

EIS No. 20100046, Second Final EIS (Tiering), USFS, ID,South Fork Salmon River Subbasin Noxious and Invasive Weed Management Program, Implementation, Krassel and McCall Ranger Districts, Payette National Forest and Cascade Ranger District, Valley and Idaho Counties, ID, Wait Period Ends: 03/29/2010, Contact: Cyd Weiland 208-373-4135.

EIS No. 20100047, Draft EIS, USFWS, 00, Lewis and Clark National Wildlife Refuge and Julia Butler Hansen Refuge for the Columbian White-tailed Deer, Comprehensive Conservation Plan, Implementation, Wahkiakum County, WA and Clatsop and Columbia Counties, OR, Comment Period Ends: 04/12/2010, Contact: Charlie Stenvall 360-484-3482.

EIS No. 20100048, Final Supplement, FHWA, HI,Saddle Road (HI-200) Improvements Project. Proposed Improvement from Mamalahoa Highway (HI-190) to Milepost 41, Hawaii County, HI, Wait Period Ends: 03/29/2010, Contact: Melissa Dickard 720-963-3691.

EIS No. 20100049, Final EIS, IBWC, TX, Presidio Flood Control Project, Flood Control Improvements and Partial Levee Relocation, Presidio, TX, Wait Period Ends: 03/29/2010, Contact: Daniel Borunda 915-832-4767.

EIS No. 20100050, Draft EIS, BLM, CA, Stirling Energy Systems (SES) Solar 2 Project, Construct and Operate, Electric-Generating Facility, Imperial Valley, Imperial County, CA, Comment Period Ends: 04/12/2010, Contact: Erin Dreyfuss 916-978-4642.

EIS No. 20100051, Draft EIS, USAF, UT, South Unit Oil and Gas Development Project, Master Development Plan, Implementation, Duchesne/Roosevelt Ranger District, Ashley National Forest, Duchesne County, UT, Comment Period Ends: 04/12/2010, Contact: David Herron 435-781-5218.

EIS No. 20100052, Draft Supplement, USFS, CA, Tahoe National Forest Motorized Travel Management, Implementation, Corrections to the National Forest Transportation System Data, Sierra Nevada Mountains, Nevada, Placer, Plumas, Sierra and Yuba Counties, CA, Comment Period Ends: 04/12/2010, Contact: David Arrasmith 530-478-6220.

EIS No. 20100053, Draft EIS, NRC, NE, Generic—License Renewal of Nuclear Plants, Regarding Cooper Nuclear Station, Unit 1, Supplement 41 to NUREG-1437, Nemaha County, NE, Comment Period Ends: 05/05/2010, Contact: Bennett Brady 301-415-2981.

EIS No. 20100054, Draft EIS, NOAA, VA, Wallops Flight Facility, Shoreline Restoration and Infrastructure Protection Program, Implementation, Wallops Island, VA, Comment Period Ends: 04/12/2010, Contact: Joshua A. Bundick 757-824-2319.

EIS No. 20100055, Final EIS, NPS, CA, Yosemite National Park Project, Construction of Yosemite Institute Environment Education Campus, Implementation, Mariposa County, CA, Wait Period Ends: 03/29/2010, Contact: Ann Roberts 209-379-1383.

EIS No. 20100056, Draft EIS, USFS, MT, Sparring Bulls Project, Proposes Timber Harvest, Non-commercial Fuels Reduction, Prescribed Burning, and Watershed Improvement Activities, Three Rivers Ranger District, Kootenal National Forest, Lincoln County, MT, Comment Period Ends: 04/12/2010, Contact: Timory Peel 406-295-4893.

Amended Notices

EIS No. 20090421, Draft EIS, NRC, WY, Moore Ranch In-Situ Uranium Recovery (ISR) Project, Proposal to Construct, Operate, Conduct Aquifer Restoration, and Decommission an In-Situ Recovery (ISR) Facility, NUREG-1910, Campbell County, WY, Comment Period Ends: 03/03/2010, Contact: Behram Shroff 301-415-0666. Revision to FR Notice Published 12/11/2009: Extending Comment from 02/01/2010 to 03/03/2010.

EIS No. 20090423, Draft EIS, NRC, WY, Nichols Ranch In-Situ Uranium Recovery (ISR) Project, Proposal to Construct, Operate, Conduct Aquifer Restoration, and Decommission and In-Situ Recovery Uranium Milling Facility, Campbell and Johnson Counties, WY, Comment Period Ends: 03/03/2010, Contact: Irene Yu 301-415-1951. Revision to FR Notice Published 12/11/2009: Extending Comment Period from 02/01/2010 to 03/03/2010.

EIS No. 20090425, Draft EIS, NRC, WY, Lost Creek In-Situ Uranium Recovery (ISR) Project, Proposal to Construct, Operate, Conduit Aquifer Restoration, and Decommission an In-Situ Recovery (ISR) Uranium Milling Facility, Sweetwater County, WY, Comment Period Ends: 03/03/2010, Contact: Alan B. Bjornsen 301-415-1195. Revision to FR Published 12/11/2009: Extending Comment Period from 02/01/2010 to 03/03/2010.

Dated: February 23, 2010.
Robert W. Hargrove,
Director, NEPA Compliance Division, Office of Federal Activities.

[FR Doc. 2010-4010 Filed 2-25-10; 8:45 am]

BILLING CODE 6560-50-P